DEPARTMENT OF ENERGY

Federal Energy Regulatory Commission

[Project No. 13809-000; Project No. 13814-000]

Lock+ Hydro Friends Fund XLVIII; FFP Missouri 15, LLC Notice Announcing Filing Priority for Preliminary Permit Applications

December 29, 2010.

On December 29, 2010, the Commission held a drawing to determine priority between two competing preliminary permit applications with identical filing times. In the event that the Commission concludes that neither of the applicants' plans is better adapted than the other to develop, conserve, and utilize in the public interest the water resources of the region at issue, the priority established by this drawing will serve as the tiebreaker. Based on the drawing, the order of priority is as follows:

1. Lock+ Hydro Friends Fund XLVIII | Project No. 13809-000.
2. FFP Missouri 15, LLC | Project No. 13814-000.

Nathaniel J. Davis, Sr.,
Deputy Secretary.

[FR Doc. 2011-176 Filed 1-7-11; 8:45 am]

BILLING CODE 6717-01-P